DEPARTMENT OF COMMERCE

National Oceanic and Atmospheric Administration

RIN 0648-XD050

Fisheries of the South Atlantic, Gulf of Mexico, and Caribbean; Southeast Data, Assessment, and Review (SEDAR); Public Meeting

AGENCY: National Marine Fisheries Service (NMFS), National Oceanic and Atmospheric Administration (NOAA), Commerce.

ACTION: Notice of SEDAR Steering Committee meeting.

SUMMARY: The SEDAR Steering Committee will meet via webinar. See SUPPLEMENTARY INFORMATION.

DATES: The Steering Committee webinar will be held on January 30, 2014, from 2 p.m. to 4 p.m., EST.

ADDRESSES: The webinar will be held via webinar. The webinar is open to members of the public. Those interested in participating should contact John Carmichael at SEDAR (see FOR FURTHER INFORMATION CONTACT) to request an invitation providing webinar access information. Please request meeting information at least 24 hours in advance.

SEDAR address: 4055 Faber Place Drive, Suite 201, N. Charleston, SC 29405.

FOR FURTHER INFORMATION CONTACT: John Carmichael, SEDAR Program Manager; telephone: (843) 571-4366; email: john.carmichael@safmc.net. Andrea Grabman, SEDAR Administrative Assistant; telephone: (843) 571-4366; email: Andrea.Grabman@safmc.net.

SUPPLEMENTARY INFORMATION: This meeting is being held to consider items discussed by the SEDAR Steering Committee at its prior meeting, held on October 1-2, 2013. Because several Steering Committee members were not allowed to attend that meeting due to the Federal Government shutdown, the Committee did not take final action on the agenda topics.

Items to discuss at this meeting:

1. SEDAR process: workshops, participation, and best practices.

2. SEDAR project scheduling: improving planning and scheduling efficiency.

3. SEDAR assessment schedule.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SEDAR office (see ADDRESSES) at least 10 business days prior to the meeting.

Note: The times and sequence specified in this agenda are subject to change.

Authority: 16 U.S.C. 1801 et seq.

Dated: January 7, 2014.
Tracey L. Thompson,
Acting Deputy Director, Office of Sustainable Fisheries, National Marine Fisheries Service.

[FR Doc. 2014-00242 Filed 1-9-14; 8:45 am]

BILLING CODE 3510-22-P